DEPARTMENT OF ENERGY

Notice of 229 Boundary for the Fort Saint Vrain Independent Spent Fuel Storage Installation

AGENCY: Department of Energy (DOE).

ACTION: Notice of 229 Boundary for the Fort Saint Vrain (FSV) Independent Spent Fuel Storage Installation (ISFSI).

SUMMARY: Notice is hereby given that the U. S. Department of Energy, pursuant to Section 229 of the Atomic Energy Act of 1954, as amended, published in the Federal Register on August 26, 1963 (28 FR 8400), prohibits the unauthorized entry, and the unauthorized introduction of weapons or dangerous materials into or upon the following described facilities of the Fort Saint Vrain Independent Spent Fuel Storage Installation of the United States Department of Energy.

The FSV ISFSI is located on part of the original FSV Nuclear Generating Station site which is about three and one-half miles northwest of Platteville, Colorado. Platteville is located in Weld County and is about 35 miles north of Denver. The FSV ISFSI street address is 17122 19.5 Weld County Road, Platteville, Colorado. The ISFSI is located approximately 1500 feet northeast of the Public Service of Colorado fossil-fueled, power plant building. The facility occupies 10 acres more or less. The 229 Boundary of this facility is indicated by a combination of chain link fence and chain link gates which surround the facility.

FOR FURTHER INFORMATION CONTACT: Scott E. Ferrara, the Department of Energy—Idaho Operations Office (DOE-ID), 1955 Fremont Ave., Idaho Falls, ID 83415. Telephone (208) 526-5531.

Issued in Idaho Falls, Idaho, on June 1, 2017.
Scott E. Ferrara,
DOE-ID Facility Director.

Editorial Note: This document was received for publication by the Office of the Federal Register on December 21, 2017.

[FR Doc. 2017-27880 Filed 12-26-17; 8:45 am]

BILLING CODE 6450-01-P